GENERAL SERVICES ADMINISTRATION

[Notice-PCSCOTUS-2021-01; Docket No. PCSCOTUS-2021-0001; Sequence No. 5]

Office of Asset and Transportation Management; Presidential Commission on the Supreme Court of the United States; Notification of Upcoming Public Virtual Meeting and Request for Public Comment

AGENCY: Office of Government-wide Policy, General Services Administration (GSA).

ACTION: Request for public comment; meeting notice.

SUMMARY: GSA is accepting written public comments on the work of the Presidential Commission on the Supreme Court of the United States (Commission). Further, GSA is providing notice of an open public virtual meeting of the Commission in accordance with the requirements of the Federal Advisory Committee Act. The purpose of this meeting is for the Commissioners to vote on amended by-laws and deliberate on revised discussion materials that will inform the report the Commission is charged with preparing pursuant to Executive Order 14023. For more information on the meeting agenda, please see the SUPPLEMENTARY INFORMATION section of this notice. This meeting is open to the public and will be live-streamed at www.whitehouse.gov/pcscotus/. Materials relevant to the public meeting will be posted at www.whitehouse.gov/pcscotus/ prior to the meeting.

DATES: The Commission will hold a public virtual meeting on November 19, 2021 from 1:00 p.m. to 5:00 p.m., Eastern Standard Time (EST).

ADDRESSES: This meeting will be conducted virtually on the internet. Interested individuals must register to attend as instructed below.

Procedures for Attendance and Public Comment

Attendance. This meeting is open to the public and the Commission encourages the public's attendance. To attend this public virtual meeting, please send an email with the Subject: Registration. In the body of the email, provide your full name, organization (if applicable), email address, and phone number to the Designated Federal Officer, at info@pcscotus.gov. Registration requests must be received by 5:00 p.m. EST, on November 17, 2021. Registrations received after this day/time may not be processed.

Public Comments. Written public comments are being accepted via http://www.regulations.gov, the Federal eRulemaking portal through December 15, 2021. No comments will be accepted after December 15, 2021.

To submit a written public comment, go to http://www.regulations.gov and search for PCSCOTUS-2021-0001. Then, click on the “Comment” button that shows up in the search results. Select the link “Comment” that corresponds with this notice. Follow the instructions provided on the screen. Please include your name, company name (if applicable), and “PCSCOTUS-2021-0001, Notification of Upcoming Public Virtual Meeting and Request for Public Comment” on your attached document (if applicable). Public comments meeting our public comment policy, included under SUPPLEMENTARY INFORMATION, will be shared on Regulations.gov. Comments provided by 5:00 p.m. EST, on November 14, 2021 will be provided to the Commission members in advance of the November 19 public meeting. Comments submitted after this date will still be provided to the Commission members, but please be advised that Commission members may not have adequate time to consider the comments prior to the meeting.

Special accommodations. For information on services for individuals with disabilities, or to request accommodation of a disability, please contact the Designated Federal Officer at least 10 business days prior to the meeting to give GSA as much time as possible to process the request.

FOR FURTHER INFORMATION CONTACT: For information on the public virtual meeting, contact Dana Fowler, Designated Federal Officer, Office of Government-wide Policy, General Services Administration, at info@pcscotus.gov, 202-501-1777.

SUPPLEMENTARY INFORMATION:

Background

The Administrator of GSA established the Commission under the Federal Advisory Committee Act on April 26, 2021 pursuant to Executive Order 14023, Establishment of the Presidential Commission on the Supreme Court of the United States, issued on April 9, 2021. Per the Executive Order, the Commission shall produce a report for the President that includes the following:

(i) An account of the contemporary commentary and debate about the role and operation of the Supreme Court in our constitutional system and about the functioning of the constitutional process by which the President nominates and, by and with the advice and consent of the Senate, appoints Justices to the Supreme Court;

(ii) The historical background of other periods in the Nation's history when the Supreme Court's role and the nominations and advice-and-consent process were subject to critical assessment and prompted proposals for reform; and

(iii) An analysis of the principal arguments in the contemporary public debate for and against Supreme Court reform, including an appraisal of the merits and legality of particular reform proposals.

Meeting Agenda

The purpose of this meeting is for the Commissioners to deliberate on revised discussion materials that will inform the report the Commission is charged with preparing pursuant to Executive Order 14023. The tentative agenda will include a vote on an amended by-laws. The remainder of the meeting will follow the structure of these materials as follows:

• Introduction: Setting the Stage and Chapter 1: The History of the Reform Debate

• Chapter 2: Membership and Size of the Court

• Chapter 3: Length of Service and Turnover of Justices on the Court

• Chapter 4: The Court's Role in the Constitutional System

• Chapter 5: Case Selection and Review: Docket, Rules, and Practices

Public Comment Policy

The Commission asks that written public comments be respectful and relevant to the work of the Commission. All comments are reviewed before they are shared with the Commission or posted online. Comments that include the following will not be shared on Regulations.gov:

• Vulgar, obscene, profane, threatening, or abusive language; personal attacks of any kind.

• Discriminatory language (including hate speech) based on race, national origin, age, gender, sexual orientation, religion, or disability.

• Endorsements of commercial products, services, organizations, or other entities.

• Repetitive posts (for example, if you submit the same material multiple times).

• Spam or undecipherable language (gratuitous links will be viewed as spam).

• Copyrighted material.

• Links to external sites.

• Images or videos.

• Solicitation of funds.

• Procurement-sensitive information.

• Surveys, polls, and questionnaires subject to the Office of Management and Budget Paperwork Reduction Act clearance.

• Personally Identifiable Information (PII) or Sensitive Information (SI).

• Off-topic posts.

• Media inquiries.

Thank you for your interest in the Presidential Commission on the Supreme Court of the United States. We look forward to hearing from you.

Krystal J. Brumfield,
Associate Administrator, Office of Government-wide Policy.

[FR Doc. 2021-23944 Filed 11-2-21; 8:45 am]

BILLING CODE 6820-14-P